DEPARTMENT OF ENERGY

Federal Energy Regulatory Commission

[Docket No. ER01-1895-002, et al.]

Tampa Electric Company, et al.; Electric Rate and Corporate Regulation Filings

October 1, 2001.

Take notice that the following filings have been made with the Commission:

1. Tampa Electric Company

[Docket Nos. ER01-1895-002 and ER01-2485-001]

Take notice that on September 27, 2001, Tampa Electric Company (Tampa Electric) refiled with the Federal Energy Regulatory Commission (Commission), 17 interchange contracts and related documents in the format required by the Commission's Order No. 614. The filing was made in compliance with the Commission's letter orders dated May 30 and July 31, 2001 in Docket Nos. ER01-1895-000 and ER01-2485-000, respectively.

A copy of the compliance filing has been served on each person designated on the official service lists in these dockets, each party to a contract affected by the filing, and the Florida Public Service Commission.

Comment date: October 18, 2001, in accordance with Standard Paragraph E at the end of this notice.

2. Central Vermont Public Service Corporation

[Docket No. ER98-2329-002]

Take notice that Central Vermont Public Service Corporation (Central Vermont), on September 25, 2001, tendered for filing with the Federal Energy Regulatory Commission (Commission) its three-year updated market power analysis in compliance with Paragraph (D) of the Commission's order granting Central Vermont's market-based rate authority. Central Vermont Public Service Corporation, 83 FERC 61,166 (1998).

Copies of the filing were served upon the public utility's jurisdictional customers, the New Hampshire Public Utilities Commission and the Vermont Public Service Board.

Comment date: October 16, 2001, in accordance with Standard Paragraph E at the end of this notice.

3. Virginia Electric and Power Company

[Docket No. ER01-2362-001]

Take notice that on September 25, 2001, Virginia Electric and Power Company, doing business as Dominion Virginia Power, tendered for filing with the Federal Energy Regulatory Commission (Commission), two executed Generator Interconnection and Operating Agreements (Interconnection Agreements) with Old Dominion Electric Cooperative (Old Dominion). Each Interconnection Agreement sets forth the terms and conditions governing the interconnection between combustion turbine plants that Old Dominion has not yet constructed and Dominion Virginia Power's transmission system. The executed Interconnection Agreements replace the unexecuted Interconnection Agreements that were filed in the above referenced docket on June 20, 2001. Dominion Virginia Power respectfully requests an effective date of November 26, 2001 for the executed Interconnection Agreements.

Copies of the filing were served upon Old Dominion Electric Cooperative and the Virginia State Corporation Commission.

Comment date: October 16, 2001, in accordance with Standard Paragraph E at the end of this notice.

4. Tri-State Power, LLC

[Docket No. ER01-2444-001]

Take notice that on September 26, 2001, Tri-State Power, LLC tendered for filing with the Federal Energy Regulatory Commission (Commission) a Revised Sheet No. 1 which provides the additional information requested by the Commission in its September 12, 2001, Order.

Comment date: October 17, 2001, in accordance with Standard Paragraph E at the end of this notice.

5. ARE Generation Company, L.L.C.

[Docket No. ER01-2586-001]

Take notice that on September 25, 2001, ARE Generation Company, L.L.C. (AGC) filed with the Federal Energy Regulatory Commission (Commission) an amendment to its application dated July 13, 2001 for grant of certain blanket authorizations, waiver of certain of the Commission's Regulations and issuance of an order accepting AGC's FERC Electric Tariff, Original Volume No. 1, and filed an umbrella service agreement for short-term sales of energy and capacity from AGC's facility to BP Energy Company.

AGC amended its application to provide a detailed explanation of the extraordinary circumstances which justify its request for waiver of the Commission's 60-day notice requirement.

Comment date: October 16, 2001, in accordance with Standard Paragraph E at the end of this notice.

6. Astoria Energy LLC

[Docket No. ER01-3103-000]

Take notice that on September 24, 2001, Astoria Energy, LLC (Astoria Energy) petitioned the Federal Energy Regulatory Commission (Commission) for acceptance of Astoria Schedule FERC No.1, the granting of certain blanket approvals including the authority to sell electric energy and capacity and ancillary services at market-based rates; and the waiver of certain Commission regulations.

Astoria Energy is a subsidiary of SCS Energy, LLC. The members of SCS Energy LLC do not have any ownership interest in a franchised electric utility. Neither Astoria Energy, nor SCS Energy, LLC own or control any transmission facilities (other than limited interconnection facilities). Copies of this filing are on file with the Commission and are available for public inspection.

Comment date: October 15, 2001, in accordance with Standard Paragraph E at the end of this notice.

7. Edison Sault Electric Company

[Docket No. OA01-7-000]

Take notice that on September 19, 2001, Edison Sault Electric Company (Edison Sault) submitted a filing providing notice that its standards of conduct filed with the Federal Energy Regulatory Commission (Commission) in the above-captioned docket are no longer applicable to Edison Sault or its employees. On January 1, 2001, Edison Sault transferred its transmission facilities to American Transmission Company, LLC (ATCLLC), a for-profit transmission company formed pursuant to Wisconsin state law. Edison Sault now operates as a generation and distribution utility. Edison Sault is required to abide by the standards of conduct filed by ATCLLC in Docket No. ER01-702-000, to the extent required by that filing.

Comment date: October 22, 2001, in accordance with Standard Paragraph E at the end of this notice.

8. Wisconsin Electric Power Company

[Docket No.OA01-8-000]

Take notice that on September 19, 2001, Wisconsin Electric Power Company (Wisconsin Electric) submitted a filing providing notice that its standards of conduct filed with the Federal Energy Regulatory Commission (Commission) in the above-captioned docket are no longer are applicable to Wisconsin Electric or its employees. Wisconsin Electric's filing states that because Wisconsin Electric no longer provides transmission service pursuant to an open access transmission tariff, the standards of conduct filed by Wisconsin Electric have become moot. Certain employees will be bound by the American Transmission Company, LLC standards of conduct accepted by the Commission in Docket No. ER01-702-000.

Comment date: October 22, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-25164 Filed 10-5-01; 8:45 am]

BILLING CODE 6717-01-P